DEPARTMENT OF THE INTERIOR

National Park Service

[NPS-WASO-NAGPRA-NPS0039310; PPWOCRADN0-PCU00RP14.R50000]

Notice of Inventory Completion: Tennessee Department of Conservation and Environment, Division of Archaeology, Nashville, TN

AGENCY: National Park Service, Interior.

ACTION: Notice.

SUMMARY: In accordance with the Native American Graves Protection and Repatriation Act (NAGPRA), the Tennessee Department of Conservation and Environment, Division of Archaeology (TDEC-TDOA) has completed an inventory of human remains and associated funerary objects and has determined that there is a cultural affiliation between the human remains and associated funerary objects and Indian Tribes or Native Hawaiian organizations in this notice.

DATES: Repatriation of the human remains and associated funerary objects in this notice may occur on or after February 18, 2025.

ADDRESSES: Phillip R. Hodge, Tennessee Department of Environment and Conservation, Division of Archaeology (TDEC-TDOA), 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of the TDEC-TDOA, and additional information on the determinations in this notice, including the results of consultation, can be found in its inventory or related records. The National Park Service is not responsible for the determinations in this notice.

Abstract of Information Available

Human remains representing, at least 13 individuals have been identified. The six associated funerary objects are two deer ulnae, one lot of faunal material, one lot of ceramic sherds, one lot of freshwater shell fragments, and one lot of associated funerary objects that have not been inventoried.

Sweetwater Island (40LD186), Loudon County, TN

Ancestral remains of at minimum two individuals were recovered by TDEC-TDOA personnel from Sweetwater Island in the Tennessee River in 1974. No record exists as to the specific circumstances surrounding their collection. The Eastern Band of Cherokee Indians claimed these ancestors on June 10, 2021. Consultation took place on May 24, June 6, and June 24, 2024. There is no known exposure to hazardous substances or treatments.

Unknown Site, Lenoir City, Loudon County, TN

Ancestral remains of at minimum two individuals and three associated funerary objects consisting of one lot of ceramic sherds, one lot of freshwater shell fragments, and one lot of faunal material were recovered during construction in Lenoir City, Tennessee in June 2023. Those were turned over to local law enforcement, transferred to the Knox County Forensic Center, and then transferred to the TDEC-TDOA for repatriation. These ancestors and associated funerary objects had not been previously reported to National NAGPRA. Consultation took place on May 24, June 6, and June 24, 2024. There is no known exposure to hazardous substances or treatments. In consultation on May 24, 2024 TDEC-TDOA suggested that these ancestors be included in the current claim. All Tribal Partners have agreed to this course of action.

McMahan Mound (40SV1), Sevierville, Sevier County, TN

Ancestral remains of at minimum two individuals and one lot of associated funerary objects that have not been inventoried were recovered by TDEC-TDOA in 1976 prior to construction of a highway bypass. The Eastern Band of Cherokee Indians claimed these ancestors on June 10, 2021. The original TDEC-TDOA NAGPRA inventory lists a single individual from this site. During review of site documentation prior to consultation, TDEC-TDOA staff identified a second ancestor as well as artifacts from associated feature fill. Consultation took place on May 24, June 6, and June 24, 2024. Tribal partners requested in consultation on May 24, 2024 that the associated funerary objects be lotted and not formally inventoried. There is no known exposure to hazardous substances or treatments.

Great Smoky Mountain Children's Home (40SV53), Sevierville, Sevier County, TN

Ancestral remains of a minimum number of three commingled individuals were exposed by mechanical excavation at the Great Smoky Mountain Children's Home in Sevierville, Tennessee in 2014. Those remains were transferred to the Division of Archaeology for repatriation. The Eastern Band of Cherokee Indians claimed these ancestors on June 10, 2021. Consultation took place on May 24, June 6, and June 24, 2024. There is no known exposure to hazardous substances or treatments.

Unknown Site, Sevierville, Sevier County TN

Ancestral remains of a minimum of four individuals and two associated funerary objects consisting of two deer ulnae, originate from an unknown site in Sevierville, Sevier County, Tennessee. Original NAGPRA inventory sheet suggest they were collected in 1931. No additional records exist as to the timing, donor, or circumstances of acquisition. Consultation took place on May 24, June 6, and June 24, 2024. In consultation on May 24, 2024 TDEC-TDOA suggested that these ancestors be included in the current claim. All Tribal Partners have agreed to this course of action. There is no known exposure to hazardous substances or treatments.

Cultural Affiliation

Based on the information available and the results of consultation, cultural affiliation is reasonably identified by the geographical location or acquisition history of the human remains and associated funerary objects described in this notice.

Determinations

The TDEC-TDOA has determined that:

• The human remains described in this notice represent the physical remains of at least 13 individuals of Native American ancestry.

• The two associated funerary objects and four lots of associated funerary objects described in this notice are reasonably believed to have been placed intentionally with or near individual human remains at the time of death or later as part of the death rite or ceremony.

• There is a connection between the human remains and associated funerary objects described in this notice and the Cherokee Nation; Eastern Band of Cherokee Indians; The Muscogee (Creek) Nation, and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after February 18, 2025. If competing requests for repatriation are received, the TDEC-TDOA must determine the most appropriate requestor prior to repatriation. Requests for joint repatriation of the human remains and associated funerary objects are considered a single request and not competing requests. The TDEC-TDOA is responsible for sending a copy of this notice to the Indian Tribes and Native Hawaiian organizations identified in this notice.

Authority: Native American Graves Protection and Repatriation Act, 25 U.S.C. 3003, and the implementing regulations, 43 CFR 10.10.

Dated: January 6, 2025.
Melanie O'Brien,
Manager, National NAGPRA Program.

[FR Doc. 2025-01004 Filed 1-15-25; 8:45 am]

BILLING CODE 4312-52-P